DEPARTMENT OF COMMERCE

National Oceanic and Atmospheric Administration

[I.D. 031907C]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on April 10-12, 2007, to consider actions affecting New England fisheries in the exclusive economic zone (EEZ).

DATES: The meeting will be held on Tuesday, April 10 beginning at 9 a.m., and Wednesday and Thursday, April 11-12, beginning at 8:30 a.m. each day.

ADDRESSES: The meeting will be held at the Mystic Hilton Hotel, 20 Coogan Boulevard, Mystic, CT 06355; telephone: (860) 572-0731.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, April 10, 2007

Following introductions, the Council will hear a series of brief reports from the Council Chairman and Executive Director, the NOAA Northeast Regional Administrator, Northeast Fisheries Science Center and Mid-Atlantic Fishery Management Council liaisons, NOAA General Counsel and representatives of the U.S. Coast Guard, NOAA Enforcement, and the Atlantic States Marine Fisheries Commission. Following these reports, the Council will host a briefing on NOAA's Aquaculture Program with a focus on the major provisions of the 2007 National Offshore Aquaculture Act. During the morning session, the Council also will receive an update from the Standard Bycatch Reporting Methodology (SBRM) Committee concerning an amendment that would modify all Council fishery management plans (FMPs) to include SBRM provisions. This agenda item will be followed by a summary of the ongoing discussions concerning changes to regional Council processes and procedures as a result of reauthorization of the Magnuson-Stevens Fishery Conservation and Management Act. The afternoon agenda will include a NOAA scoping hearing on ending overfishing and alternatives that would address annual catch limits and accountability measures, provisions that are now part of the reauthorized Magnuson-Stevens Act. The day will conclude with a discussion of a strawman process that could address other new requirements of Magnuson-Stevens Act, specifically, a streamlined process to comply with the National Environmental Policy Act.

Wednesday, April 11, 2007

The Council intends to both approve a Draft Supplemental Environmental Impact Statement and select preferred alternatives for Amendment 11 to the Sea Scallop Fishery Management Plan. It also will consider initiation of Framework Adjustment 20 the the FMP, an action to extend measures implemented by emergency action to prevent overfishing through the end of fishing year 2007. The emergency reduced the number of scallop trips in the Elephant trunk Area in 2007. The framework would continue the measures through March 1, 2008. The Scallop Survey Advisory Committee will provide an update on progress to develop and test a prototype scallop dredge for survey use. The Council will then hold a public hearing on Phase I of its Essential Fish Habitat (EFH) Omnibus Amendment 2 Draft Supplemental Environmental Impact Statement. The public is invited to comment on the EFH designation alternatives, Habitat Area of Particular Concern alternatives, an evaluation of prey species for NEFMC-managed species and an evaluation of the potential impacts of non-fishing activities on EFH.

Thursday, April 12, 2007

The Council's Research Steering Committee Chairman will report on the committee's recommendations concerning the use of information provided in several cooperative research final reports. This will be followed by a discussion of other issues related to cooperative research, including research priorities for 2007. The Omnibus Sector Committee will provide an update on the development of an amendment that will provide an overall framework for the development of sectors. The Groundfish Committee will report on its efforts to develop Amendment 16 to the Northeast Multispecies FMP. The Council also will consider developing comments on proposed sector operations plans for the Cape Cod Commercial Hook Gear Sector and the Fixed Gear Sector that operates under the Multispecies FMP. Any approved comments would be forwarded to the NOAA Fisheries Regional Administrator. An open period for the public to address any other Council-related business will be provided at this point in the day. During the afternoon session of the meeting, the Skate Committee will review management advice from the Skate Plan Development Team, as well as draft management alternatives for possible inclusion in an amendment to the Skate FMP. The Council also may approve a scoping document for this action. At the end of the day, the Council's Enforcement Committee will discuss committee progress to develop recommendations concerning the use of VMS and other tools to address safety-at sea, regulatory compliance, and other fishery management-related activities.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: March 20, 2007.
Tracey L. Thompson,
Acting Director, Office of Sustainable Fisheries, National Marine Fisheries Service.

[FR Doc. E7-5317 Filed 3-22-07; 8:45 am]

BILLING CODE 3510-22-S